DEPARTMENT OF AGRICULTURE

Rural Business-Cooperative Service

[Docket No.: RBS-23-BUSINESS-0022]

60-Day Notice of Proposed Information Collection: Rural Economic Development Loan and Grant Program; OMB Control No.: 0570-0035

AGENCY: Rural Business-Cooperative Service, USDA.

ACTION: Notice; request for comments.

SUMMARY: In accordance with the Paperwork Reduction Act of, the United States Department of Agriculture (USDA) Rural Business-Cooperative Service (RBCS) announces its' intention to request a revision of a currently approved information collection and invites comments on this information collection.

DATES: Comments on this notice must be received by December 26, 2023, to be assured of consideration.

ADDRESSES: Comments may be submitted by the Federal eRulemaking Portal: Go to http://www.regulations.gov and, in the “Search Field” box, labeled “Search for dockets and documents on agency actions,” enter the following docket number: (RBS-23-BUSINESS-0022), and click “Search.” To submit public comments, select the “Comment” button. Before inputting your comments, you may also review the “Commenter's Checklist” (optional). Insert your comments under the “Comment” title, click “Browse” to attach files (if applicable). Input your email address and select an identity category then click “Submit Comment.” Information on using Regulations.gov, including instructions for accessing documents, submitting comments, and viewing the docket after the close of the comment period, is available through the site's “FAQ” link.

FOR FURTHER INFORMATION CONTACT: Kimble Brown, Rural Development Innovation Center—Regulations Management Division, USDA, 1400 Independence Avenue SW, STOP 1522, South Building, Washington, DC 20250-1522. Telephone: (202) 720-6780. Email Kimble.Brown@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RBCS is submitting to OMB as a revision to an existing collection.

Title: Rural Economic Development Loan and Grant Program.

OMB Control Number: 0570-0035.

Expiration Date of Approval: August 31, 2024.

Type of Request: Revision of a currently approved information collection.

Estimate of Burden: Public reporting burden for this collection of information is estimated to average 2.26 hours per response.

Respondents: Not-for-profit institutions.

Estimated Number of Respondents: 120.

Estimated Number of Responses per Respondent: 17.

Estimated Annual Reporting Number of Responses: 2,012.

Estimated Annual Reporting Burden on Respondents: 4,562.

Estimated Annual Recordkeeping Number of Responses: 90.

Estimated Annual Recordkeeping Burden on Respondents: 180.

Estimated Total Annual Number of Responses: 2,102.

Estimated Total Annual Burden on Respondents: 4,742.

Abstract: Under this program, loans and grants are provided to electric and telecommunications utilities that have borrowed funds from the Agency. The purpose of the program is to encourage these electric and telecommunications utilities to promote rural economic development and job creation projects such as business start-up costs, business expansion, community development, and business incubator projects. The utilities must use program loan funds to make a pass-through loan to an ultimate recipient such as a business. The utility is responsible for fully repaying its loan to the Government, even if the ultimate recipient does not repay its loan. The intermediary must use program grant funds, along with its required contribution, to create a revolving loan fund that the utility will operate and administer. Loans to the ultimate recipient are made from the revolving loan fund for a variety of community development projects. The information requested is necessary and vital in order for the Agency to be able to make prudent and financial analysis decisions.

The information collected will be used to evaluate applications for funding consideration, conduct an environmental review, prepare legal documents, receive loan payments, oversee the operation of a revolving loan fund, monitor the use of RBS funds, and enforce other Government requirements such as compliance with civil rights regulations.

Comments are invited on: (a) whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent by the Federal eRulemaking Portal: Go to https://www.regulations.gov. Follow the instructions for submitting comments.

Copies of this information collection can be obtained from Kimble Brown, Innovation Center, at (202) 720-6780, Email: kimble.brown@usda.gov.

All responses to this notice will be summarized and included in the request for OMB approval. All comments will also become a matter of public record.

Karama Neal,
Administrator, Rural Business-Cooperative Service.

[FR Doc. 2023-23410 Filed 10-23-23; 8:45 am]

BILLING CODE 3410-XY-P